DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of May 23, 2016 through June 3, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) The workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) The workers' firm is publicly identified by name by the International Trade Commission as a member of a domestic industry in an investigation resulting in—

(A) An affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) A summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) The 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
90,073 | Process Mfg. Co., Inc., T.R.S. and Stand-By Personnel | Tulsa, OK | January 1, 2014.
91,019 | Alton Steel, Inc., Availability Staffing and Machinery in Motion | Alton, IL | October 2, 2014.
91,120 | Inteva Products, LLC | North Kansas City, MO | October 30, 2014.
91,249 | Richland Center Foundry LLC, Corporate Development, Inc., and Tres-M Solutions | Richland Center, WI | December 17, 2014.
91,361 | Resin Technology Group LLC, Henkel Corporation, Adhesives Technologies Division | South Easton, MA | January 4, 2015.
91,381 | HTI Hydraulic Technologies, LLC, Ligon Industries, LLC | Galion, OH | January 25, 2015.
91,506 | Evergreen Manufacturing Group, LLC, Evergreen Trading Company, LLC | Madawaska, ME | February 24, 2015.
91,587 | RWC, Inc | Bay City, MI | March 12, 2015.
91,611 | Sherwin Alumina Company, LLC, CCC Group, McWhorter Electric, MMR Constructors, Inc., etc | Gregory, TX | March 21, 2015.
91,681 | Mikco Manufacturing Technology, Inc | Wallingford, CT | April 8, 2015.

The following certifications have been issued. The requirements of Section 222(a)(2)(B) (shift in production or services) of the Trade Act have been met.

TA-W No. | Subject firm | Location | Impact date
90,185 | Blair LLC, Orchard Brands Corporation, Call Center | Franklin, PA | January 1, 2014.
90,276 | Target Corporation, Accounts Payable and Finance Department | Brooklyn Park, MN | January 1, 2014.
91,068 | Bombardier Service Corporation | Colchester, VT | October 22, 2014.
91,290 | ConAgra Foods, Inc., Enterprise Business Services—OMAHA, IT Department—OMAHA, etc | Omaha, NE | December 24, 2014.
91,368 | Grain Systems, Inc. (GSI), AGCO, Accesspoint, Caresoft Global, Inc., Manpower, Trillium Staffing, etc | Marshall, MI | January 20, 2015.
91,404 | Qual-Pro Corporation, System One Staffing Specialist and TRC Staffing Group | Gardena, CA | January 27, 2015.
91,484 | Vitron Acquisition LLC, The Atlas Group, Hotfoot Recruiters LLC and Experis US Inc | Phoenix, AZ | February 18, 2015.
91,485 | Sensata Technologies, Inc., FKS Schrader Electronics, Performance Sensing Division, Staffmark | Springfield, TN | February 18, 2015.
91,505 | Walgreens Company, Information Technology Division, Walgreens Boots Alliance | Deerfield, IL | February 1, 2015.
91,505A | Walgreens Company, Information Technology Division, Walgreens Boots Alliance | Lincolnshire, IL | February 1, 2015.
91,511 | Technicolor Home Entertainment Services, FNA Cinram Manufacturing, LLC, Southeast Division, Dynamic Staffing, etc | Olyphant, PA | February 24, 2015.
91,513 | Ball Metal Beverage Container Corp., Ball Corporation, Manpower and Cortech | Bristol, VA | February 24, 2015.
91,514 | Royal Bank of Scotland, Echannels Delivery Team, Global Transactions Services Division, etc | Chicago, IL | February 24, 2015.
91,518 | SABIC US LLC, Specialty Division | Thorndale, PA | February 25, 2015.
91,520 | Flex Charlotte, Formerly Flextronics, Global Operations Division, Flex International, etc | Charlotte, NC | February 25, 2015.
91,597 | Plantronics, Inc, Dewinter Group, Inc., Aerotex, and Stephen James Associates | Santa Cruz, CA | March 14, 2015.
91,597A | Clarity, Plantronics, Inc | Chattanooga, TN | March 14, 2015.
91,597B | Plantronics, Inc., Finance Department, Accounting Group, Aerotek | Santa Cruz, CA | November 6, 2015.
91,601 | Trinity Containers, LLC, Trinity Industries, Inc | Quincy, IL | March 9, 2015.
91,612 | Cartus Corporation, Realogy Holdings, Inc., Division of Relocation Accounting, Coworx Staffing | Danbury, CT | March 21, 2015.
91,632 | Sanofi-Aventis, US LLC, Industrial Affairs Division, Sanofi, Sanofi-Aventis US, Inc | Kansas City, MO | June 28, 2016.
91,632A | Pro-Unlimited, Sanofi-Aventis, US LLC, Industrial Affairs Division, Sanofi, etc | Kansas City, MO | March 25, 2015.
91,662 | Howmet Corporation, Whitehall Operations, Alcoa, Inc., Contact Geometric Results, Inc | Whitehall, MI | April 4, 2015.
91,701 | Clover Technologies, LLC, CAU Acquisition, A/K/A Cartridges Are US | Ithaca, MI | April 11, 2015.
91,707 | Hewlett Packard Enterprise, Hewlett Packard, ES ITO Network Delivery | Plano, TX | April 14, 2015.
91,721 | Yellow Pages Digital &amp; Media Solutions LLC, Print Division, Yellow Pages Group Holding (USA) | Indianapolis, IN | April 21, 2015.
91,734 | Ralph Lauren Corporation, Greensboro IT Services, Distinctive Personnel, etc | Greensboro, NC | April 26, 2015.
91,738 | International Business Machines Corporation (IBM), Mainframe Performance and Capacity Management Services Line, etc | Southbury, CT | April 22, 2015.
91,738A | International Business Machines Corporation (IBM), Mainframe Performance and Capacity Management Services Line, etc | Poughkeepsie, NY | April 22, 2015.
91,743 | Datex-Ohmeda, Inc., GE Healthcare | Madison, WI | April 26, 2015.
91,753 | Epicor Software Corporation, EGL Holdco, Inc., EAO Computing, Ruthann Ford, Michael IUPE, etc | Austin, TX | April 27, 2015.
91,753A | Epicor Software Corporation, EGL Holdco, Inc | Hyannis, MA | April 27, 2015.
91,755 | Kraft Heinz Foods Company, Kraft Heinz Company, Kelly Services | Allentown, PA | April 28, 2015.
91,772 | Blount International, Inc., Forestry, Lawn, and Garden Division, Express Employment Professionals | Portland, OR | September 20, 2015.
91,798 | Eaton Corporation—Hutchinson Plant, Industrial Sector, Hydraulics Division, Eaton Corporation, Bartech | Hutchinson, KS | May 11, 2015.
91,813 | Xerox, Large Enterprise Operations, US Division | Webster, NY | May 13, 2015.

The following certifications have been issued. The requirements of Section 222(b) (supplier to a firm whose workers are certified eligible to apply for TAA) of the Trade Act have been met.

TA-W No. | Subject firm | Location | Impact date
91,250 | Koppers, Inc | Follansbee, WV | February 1, 2016.
91,250A | Koppers, Inc | Clairton, PA | December 18, 2014.
91,250B | Koppers, Inc | Cicero, IL | December 18, 2014.
91,318 | Felman Production, LLC, Georgian American Alloys, Inc., O'Brien's Safety Services, LLC | Letart, WV | September 11, 2015.
91,800 | Medical Business Administration Resources, Inc | South Burlington, VT | May 12, 2015.

Negative Determinations for Worker Adjustment Assistance

In the following cases, the investigation revealed that the eligibility criteria for worker adjustment assistance have not been met for the reasons specified.

The investigation revealed that the criterion under paragraph (a)(1) or (b)(1) (employment decline or threat of separation) of section 222 has not been met.

TA-W No. | Subject firm | Location | Impact date
91,774 | Universal Oil Products, Honeywell International Performance Materials, etc | Des Plaines, IL

The investigation revealed that the criteria under paragraphs (a)(2)(A)(i) (decline in sales or production, or both) and (a)(2)(B) (shift in production or services to a foreign country) of section 222 have not been met.

TA-W No. | Subject firm | Location | Impact date
91,757 | Lewis Bakery, Vincennes Staffing and Action Staffing | Vincennes, IN

The investigation revealed that the criteria under paragraphs(a)(2)(A) (increased imports) and (a)(2)(B) (shift in production or services to a foreign country) of section 222 have not been met.

TA-W No. | Subject firm | Location | Impact date
85,382 | Baldor Electric Company, Drives Center, ABB Group | Fort Smith, AR
90,057 | Union Pacific Railroad Company, Twin Cities Service Unit | St. Paul, MN
90,158 | Steeltek, Inc | Tulsa, OK
90,207 | National Oilwell Varco, L.P | Tulsa, OK
91,029 | Mersen USA St. Marys—PA Corp., Mersen USA BN Corp | Saint Marys, PA
91,230 | BAE Systems RO Defense Inc, BAE Systems, Inc | Hattiesburg, MS
91,248 | Exal Corporation, Alliance Industrial Solutions and Ryan Alternative Staffing | Youngstown, OH
91,303 | Master Halco, Inc., Itochu International, Inc., Employment Solutions of New York | Scranton, PA
91,439 | Baker Hughes, Inc., Wireline Systems Division | Grand Prairie, TX
91,443 | Select Energy Services, LLC, Sit—Truck Yard | Cambridge, OH

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
91,731 | Bank of America, Bank of America, N.A | Simi Valley, CA
91,784 | All-State Sales and Administrative Services | Syracuse, NY
91,827 | Chandler Industries | Montevideo, MN

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
91,756 | Schlumberger Technology Corporation, Petroleum Group | Bakersfield, CA

The following determinations terminating investigations were issued because the petitioning groups of workers are covered by active certifications. Consequently, further investigation in these cases would serve no purpose since the petitioning group of workers cannot be covered by more than one certification at a time.

TA-W No. | Subject firm | Location | Impact date
90,315 | Hewlett Packard Enterprise Services | Overland Park, KS
91,074 | Day & Zimmermann Lone Star LLC, Day & Zimmerman Group, Inc., ManpowerGroup | East Camden, AR
91,406 | Osram Sylvania, Inc., Osram Licht AG | Wilmington, MA
91,436 | Ocwen Loan Servicing, LLC, Ocwen Financial Corporation, GMAC Mortgage, LLC, etc | Waterloo, IA
91,588 | Century Aluminum of South Carolina, Inc., Mau Workforce Solutions | Goose Creek, SC
91,664 | Whelan Security Company, Noranda Aluminum, Inc., Noranda Aluminum Holding Corporation | New Madrid, MO
91,678 | Global Integrated Resources, Inc., Dresser, Inc., Dresser Masoneilan, General Electric Measurement, etc | Avon, MA
91,775 | Universal Oil Products, Honeywell International Performance Materials, etc | McCook, IL
91,776 | Universal Oil Products, Honeywell International Performance Materials, etc | Chickasaw, AL

The following determinations terminating investigations were issued because the petitions are the subject of ongoing investigations under petitions filed earlier covering the same petitioners.

TA-W No. | Subject firm | Location | Impact date
91,863 | Remington Outdoor Company | Hickory, KY

I hereby certify that the aforementioned determinations were issued during the period of May 23, 2016 through June 3, 2016. These determinations are available on the Department's Web site https://www.doleta.gov/tradeact/taa/taa_search_form.cfm under the searchable listing of determinations. or by calling the Office of Trade Adjustment Assistance toll free at 888-365-6822.

Signed at Washington, DC, this 7th day of June 2016.
Jessica R. Webster
Certifying Officer, Office of Trade Adjustment Assistance.

[FR Doc. 2016-15252 Filed 6-27-16; 8:45 am]

BILLING CODE 4510-FN-P